DEPARTMENT OF AGRICULTURE

Forest Service

South Mt. Baker-Snoqualmie Resource Advisory Committee

AGENCY: Forest Service, USDA.

ACTION: Notice of meeting.

SUMMARY: The South Mt. Baker-Snoqualmie (MBS) Resource Advisory Committee (RAC) will meet in North Bend, Washington on September 7, 2012. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and rank 2013 Title II RAC proposals.

DATES: The meeting will be held on Friday, September 7, 2012 from 8 a.m. to 4 p.m.

ADDRESSES: The meeting will be held at the Snoqualmie Ranger District office, North Bend Conference Room, located at 902 SE North Bend Way, North Bend, Washington 98045-9545.

FOR FURTHER INFORMATION CONTACT: Jim Franzel, District Ranger, Snoqualmie Ranger District, phone (425) 888-8751, email jfranzel@fs.fed.us.

Individuals who use telecommunication devices for the deaf (TDD) may call the Federal Information Relay Service (FIRS) at 1-800-877-8339 between 8 a.m. and 8 p.m., Eastern Standard Time, Monday through Friday. Written comments and requests for time for oral comments must be sent to Snoqualmie Ranger District, 902 SE North Bend Way, North Bend, Washington 98045-9545.

SUPPLEMENTARY INFORMATION: More information will be posted on the Mt. Baker-Snoqualmie National Forest Web site at: http://www.fs.fed.us/r6/mbs/projects/rac.shtml.

Comments may be sent via email to jfranzel@fs.fed.us or via facsimile to (425) 888-1910. All comments, including names and addresses when provided, are placed in the record and are available for public inspection and copying. The public may inspect comments received at the Snoqualmie Ranger District office (address above), during regular office hours (Monday through Friday 8 a.m.-4:30 p.m.). Please call ahead to (425) 888-1421 to facilitate entry into the building to view comments.

Dated: August 14, 2012.
Jennifer Eberlien,
Forest Supervisor.

[FR Doc. 2012-20471 Filed 8-20-12; 8:45 am]

BILLING CODE 3410-11-P